ENVIRONMENTAL PROTECTION AGENCY

40 CFR Part 52

[EPA-R08-OAR-2021-0001; FRL-10014-02-R8]

Air Plan Approval; Montana; Revisions to Regional Haze State Implementation Plan and Partial Withdrawals to Regional Haze Federal Implementation Plan

AGENCY: Environmental Protection Agency (EPA).

ACTION: Final rule.

SUMMARY: The Environmental Protection Agency (EPA) is approving a State Implementation Plan (SIP) revision submitted by the State of Montana on March 25, 2020, addressing regional haze. Specifically, EPA is approving a SIP revision for the first implementation period of the Clean Air Act's (CAA) regional haze program that addresses the nitrogen oxides (NOX) and sulfur dioxide (SO2) Best Available Retrofit Technology (BART) requirements for two electric generating unit (EGU) facilities, as well as replaces portions of the Federal Implementation Plan (FIP) promulgated by EPA in 2012 (2012 regional haze FIP) addressing the NOX, SO2, and particulate matter (PM) BART requirements for two cement kilns and the PM BART requirements for the same two EGU facilities. Consistent with our approval of Montana's regional haze SIP revision, EPA is withdrawing, the portions of the FIP promulgated by EPA in the 2012 regional haze FIP addressing the NOX, SO2, and PM BART requirements for the two cement kilns and the PM BART requirements for the two EGU facilities. This action also addresses the United States Court of Appeals for the Ninth Circuit's June 9, 2015 vacatur and remand of portions of the FIP. EPA is finalizing this action pursuant to the CAA.

DATES: This rule is effective on July 26, 2023.

ADDRESSES: The EPA has established a docket for this action under Docket ID No. EPA-R08-OAR-2021-0001. All documents in the docket are listed on the https://www.regulations.gov website. Although listed in the index, some information is not publicly available, e.g., CBI or other information whose disclosure is restricted by statute. Certain other material, such as copyrighted material, is not placed on the website and will be publicly available only in hard copy form. Publicly available docket materials are available through https://www.regulations.gov, or please call or email the person identified in the FOR FURTHER INFORMATION CONTACT section for additional availability information.

FOR FURTHER INFORMATION CONTACT: Jaslyn Dobrahner, Air and Radiation Division, EPA, Region 8, Mailcode 8ARD-IO, 1595 Wynkoop Street, Denver, Colorado 80202-1129, telephone number: (303) 312-6252, email address: dobrahner.jaslyn@epa.gov.

SUPPLEMENTARY INFORMATION: Throughout this document wherever “we,” “us,” or “our” is used, we mean EPA.

Table of Contents

I. Background

II. Public Comments and EPA Responses

III. EPA's Final Action

IV. Incorporation by Reference

V. Statutory and Executive Order Reviews

A. Executive Order 12866: Regulatory Planning and Review and Executive Order 13563: Improving Regulation and Regulatory Review

B. Paperwork Reduction Act

C. Regulatory Flexibility Act

D. Unfunded Mandates Reform Act (UMRA)

E. Executive Order 13132: Federalism

F. Executive Order 13175: Consultation and Coordination With Indian Tribal Governments

G. Executive Order 13045: Protection of Children from Environmental Health Risks and Safety Risks

H. Executive Order 13211: Actions Concerning Regulations That Significantly Affect Energy Supply, Distribution, or Use

I. National Technology Transfer and Advancement (NTTAA)

J. Executive Order 12898: Federal Actions To Address Environmental Justice in Minority Populations and Low-Income Populations

K. Determination Under Clean Air Act Section 307(d)

L. Congressional Review Act

M. Judicial Review

I. Background

In our notice of proposed rulemaking published on September 9, 2022 (87 FR 55331), EPA proposed to approve revisions to Montana's regional haze SIP submitted by the State of Montana on March 25, 2020. In this rulemaking, we are taking final action to approve two Montana Board of Environment Review Orders pertaining to regional haze requirements for four facilities ¹ into the state's SIP. Specifically, EPA is approving: (1) NOX, SO2, and PM BART emission limits along with associated requirements for the Ash Grove Cement Company's Montana City Plant (Montana City) and GCC Three Forks, LLC's Trident Plant (Trident); (2) the PM BART emission limits along with associated requirements for Talen Montana, LLC's Colstrip Steam Electric Station, Units 1 and 2 (Colstrip Units 1 and 2); (3) the determination that Colstrip Units 1 and 2's enforceable shutdown date of July 1, 2022, satisfies the outstanding NOX and SO2 BART requirements for that facility; and (4) the determination that the outstanding NOX and SO2 BART requirements for Corette (as well as the remaining PM BART requirements for Corette in EPA's FIP) are satisfied because the source is no longer in operation and has been demolished.

¹ Ash Grove Cement Company's Montana City Plant; GCC Three Forks, LLC's Trident Plant; JE Corette Steam Electric Station; and Talen Montana, LLC's Colstrip Steam Electric Station, Units 1 and 2.

Consistent with our approval of Montana's regional haze SIP for the PM BART emission limits and other requirements for Colstrip Units 1 and 2 and Corette along with the NOX, SO2, and PM BART emission limits and other requirements for Montana City and Trident, we are also withdrawing those corresponding portions of the 2012 regional haze FIP found at 40 CFR 52.1396.

In addition, through our approval of the NOX and SO2 BART determinations for Corette and Colstrip Units 1 and 2, we are addressing the U.S. Court of Appeals for the Ninth Circuit's June 9, 2015 remand of portions of the 2012 regional haze FIP in this action, including EPA's response to a public comment regarding the use of the CALPUFF visibility model in determining BART at Colstrip Units 1 and 2.

The technical rationale for our approval and our response to the remand of portions of the 2012 FIP for Montana are provided in detail in the proposed rule.

II. Public Comments and EPA Responses

We received two comments that were both submitted anonymously during the public comment period. EPA determined that the first comment, which asks where money collected in the form of fees, auctions of emissions rights, and permits will go, does not pertain to and is outside the scope of our proposed action and fails to identify a material issue related to this action that necessitates a response. Below is a summary of the second comment and EPA's response.

Comment: The commenter asserts that NOX, SO2, and PM are dangerous chemicals that lead to adverse health effects, including respiratory infections, asthma, lung disease and cancer. Likewise, the commenter claims that these emissions could also cause environmental damage, including acid rain, contributions to the greenhouse effect, and changes to weather patterns associated with climate change. In summary, the commenter argues that these emissions are harmful to people living nearby these facilities and reductions in emissions will protect both human health and the environment.

Response: EPA appreciates the commenter's concerns regarding the negative health impacts of NOX, SO2, and PM. While the legal requirements against which we have evaluated Montana's SIP submission for purposes of this action concern remedying visibility impairment,² we note this action may also have potential co-benefits through the reductions of NOX, SO2, and PM emissions associated with meeting the BART requirements. Therefore, while we appreciate the commenter's concern and support for this action, we take no positions as to these specific statements.

² See generally CAA section 169A.

III. EPA's Final Action

We are approving the following elements of Montana's regional haze SIP revision as satisfying the applicable requirements for the first regional haze planning period:

• In the Matter of an Order Setting Air Pollutant Emission Limits that the State of Montana may Submit to the Federal Environmental Protection Agency for Revision of the State Implementation Plan Concerning Protection of Visibility, Affecting the Following Facilities: Ash Grove Cement Company's Montana City Plant, and GCC Three Forks, LLC's Trident Plant. Board Order Findings of Fact, Conclusions of Law, and Order. October 18, 2019, Appendix A.

• In the Matter of an Order Setting Air Pollutant Emission Limits that the State of Montana may Submit to the Federal Environmental Protection Agency for Revision of the State Implementation Plan Concerning Protection of Visibility, Affecting the Following Facilities: Talen Montana, LLC's Colstrip Steam Electric Station, Units 1 and 2, and JE Corette Steam Electric Station. Board Order Findings of Fact, Conclusions of Law, and Order. October 18, 2019, Appendix A.

Because we are finding that Montana's SIP revision satisfies the applicable requirements related to the obligation for states' regional haze plans to include BART for the first regional haze planning period, we are also withdrawing the corresponding portions of the 2012 regional haze FIP addressing the NOX, SO2, and PM BART emission limits and associated requirements for two cement kilns and the PM BART emission limits and associated requirements for the two EGU facilities contained within our 2012 regional haze FIP at 40 CFR 52.1396. While EPA is approving the emission limits, compliance determination requirements, and other monitoring, reporting, and recordkeeping requirements associated with BART into Montana's SIP as detailed in the proposed rule, other regional haze requirements for the first implementation period, including requirements related to reasonable progress and analytical requirements related to BART remain satisfied by EPA's FIP (with no enforceable FIP requirements left in the CFR).

IV. Incorporation by Reference

In this document, EPA is finalizing regulatory text that includes incorporation by reference. In accordance with the requirements of 1 CFR 51.5, EPA is finalizing the incorporation by reference of the SIP amendments described in section III of this preamble. The EPA has made, and will continue to make, these materials generally available through https://www.regulations.gov (refer to docket EPA-R08-OAR-2021-0001) and at the EPA Region 8 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference by the Director of the Federal Register in the next update to the SIP compilation.³

³ 62 FR 27968 (May 22, 1997).

V. Statutory and Executive Order Reviews

Additional information about these statutes and Executive Orders can be found at http://www.epa.gov/laws-regulations/laws-and-executive-orders.

A. Executive Order 12866: Regulatory Planning and Review and Executive Order 14094: Modernizing Regulatory Review

This action is exempt from review under Executive Order 12866, as amended by Executive Order 14094, because it applies to only 4 facilities in the State of Montana.

B. Paperwork Reduction Act

This action does not impose an information collection burden under the provisions of the Paperwork Reduction Act (PRA) because it revises the reporting requirements for 4 facilities.

C. Regulatory Flexibility Act

I certify that this action will not have a significant economic impact on a substantial number of small entities under the Regulatory Flexibility Act (RFA). This action will not impose any requirements on small entities as no small entities are subject to the requirements of this rule.

D. Unfunded Mandates Reform Act (UMRA)

This action does not contain an unfunded mandate of $100 million or more as described in UMRA, 2 U.S.C. 1531-1538, and does not significantly or uniquely affect small governments. The action merely transfers the regional haze requirements found in the 2012 regional haze FIP to a SIP and approves the State's permanent closure of two facilities, thus this action is not subject to the requirements of sections 202 or 205 of UMRA. This action is also not subject to the requirements of section 203 of UMRA because it contains no regulatory requirements that might significantly or uniquely affect small governments.

E. Executive Order 13132: Federalism

This action does not have federalism implications. It will not have substantial direct effects on the States, on the relationship between the national government and the States, or on the distribution of power and responsibilities among the various levels of government.

F. Executive Order 13175: Consultation and Coordination With Indian Tribal Governments

Executive Order 13175, entitled “Consultation and Coordination with Indian Tribal Governments”, requires EPA to develop an accountable process to ensure “meaningful and timely input by tribal officials in the development of regulatory policies that have tribal implications.” ⁴ This action does not have tribal implications, as specified in Executive Order 13175. It will not have substantial direct effects on tribal governments. Thus, Executive Order 13175 does not apply to this action. However, EPA did send letters to each of the Montana tribes explaining our regional haze action and offering consultation.

⁴ 65 FR 67249, 67250 (November 9, 2000).

G. Executive Order 13045: Protection of Children From Environmental Health Risks and Safety Risks

This action is not subject to Executive Order 13045 (62 FR 19885, April 23, 1997). EPA interprets Executive Order 13045 as applying only to those regulatory actions that concern environmental health or safety risks that EPA has reason to believe may disproportionately affect children, per the definition of “covered regulatory action” in section 2-202 of the Executive Order. This action is not subject to Executive Order 13045 because it does not concern an environmental health risk or safety risk.

H. Executive Order 13211: Actions Concerning Regulations That Significantly Affect Energy Supply, Distribution, or Use

This action is not subject to Executive Order 13211 (66 FR 28355 (May 22, 2001)), because it is not a significant regulatory action under Executive Order 12866.

I. National Technology Transfer and Advancement (NTTAA)

This rulemaking does not involve technical standards.

J. Executive Order 12898: Federal Actions To Address Environmental Justice in Minority Populations and Low-Income Populations

Executive Order 12898 (59 FR 7629, February 16, 1994) directs Federal agencies, to the greatest extent practicable and permitted by law, to make environmental justice part of their mission by identifying and addressing, as appropriate, disproportionately high, and adverse human health or environmental effects of their programs, policies, and activities on minority populations (people of color and/or Indigenous peoples) and low-income populations.

The EPA believes that the human health and environmental conditions that exist prior to this action do not result in disproportionate and adverse effects on people of color, low-income populations, and/or Indigenous peoples. In 2012, we determined that our final action would “not have disproportionately high and adverse human health or environmental effects on minority or low-income populations because it increased the level of environmental protection for all affected populations without having any disproportionately high and adverse human health or environmental effects on any population, including any minority or low-income population.” ⁵

⁵ 77 FR 57914 (September 18, 2012).

The EPA believes that this action is not likely to result in new disproportionate and adverse effects on people of color, low-income populations and/or Indigenous peoples. Because this final rule alters the existing requirements for regional haze in the State of Montana by including the enforceable shutdown of two sources and otherwise only transfers existing requirements from a FIP to the SIP, our determination is unchanged from that in 2012. The EPA additionally identified and addressed environmental justice concerns by performing a screening analysis using the EJScreen tool ⁶ to evaluate environmental and demographic indicators for the areas impacted by this action. These results indicate that areas impacted by this final action are not potential areas of EJ concern and are not candidates for further EJ review. EPA is providing this information for public information purposes, and not as a basis of our final action. The information supporting this Executive Order review is contained in the docket for this action.

⁶ EJSCREEN is an environmental justice mapping and screening tool that provides EPA with a nationally consistent dataset and approach for combining environmental and demographic indicators; available at https://www.epa.gov/ejscreen/what-ejscreen.

K. Determination Under Clean Air Act Section 307(d)

The partial withdrawal of EPA's FIP in this action is subject to the provisions of CAA section 307(d) pursuant to section 307(d)(1)(B), which provides that section 307(d) applies to, among other things, “the promulgation or revision of an implementation plan by the Administrator under [CAA section 110(c)].” ⁷ The agency has complied with the procedural requirements of CAA section 307(d) during the course of this rulemaking with regard to the entirety of this action.

⁷ 42 U.S.C. 7607(d)(1)(B).

L. Congressional Review Act

This rule is exempt from the Congressional Review Act (CRA) because it is a rule of particular applicability that only applies to 4 facilities.

M. Judicial Review

Under section 307(b)(1) of the CAA, petitions for judicial review of this action must be filed in the United States Court of Appeals for the appropriate circuit by August 25, 2023. Filing a petition for reconsideration by the Administrator of this final rule does not affect the finality of this action for purposes of judicial review nor does it extend the time within which a petition for judicial review may be filed and shall not postpone the effectiveness of such rule or action. This action may not be challenged later in proceedings to enforce its requirements. See CAA section 307(b)(2).

List of Subjects in 40 CFR Part 52

Environmental protection, Air pollution control, Incorporation by reference, Intergovernmental relations, Nitrogen dioxides, Particulate matter, Sulfur oxide.

Michael S. Regan,
Administrator.

For the reasons stated in the preamble, the Environmental Protection Agency amends 40 CFR part 52 as follows:

PART 52—APPROVAL AND PROMULGATION OF IMPLEMENTATION PLANS

1. The authority citation for part 52 continues to read as follows:

Authority: 42 U.S.C. 7401 et seq.

Subpart BB—Montana

2. Amend § 52.1370 by revising the table in paragraph (d) to read as follows:

§ 52.1370 Identification of plan.

* * * * *

(d) * * *

Title/subject | State effective date | Notice of final rule date | NFR citation
(1) Cascade County:
1985 December 5 Stipulation and 1985 October 20 Permit for Montana Refining Company. In the matter of the Montana Refining Company, Cascade County; compliance with ARM 16.8.811, ambient air quality standard for carbon monoxide | 12/5/1985 | 9/7/1990 | 55 FR 36812.
(2) Deer Lodge County:
1978 November 16 Order for Anaconda Copper Smelter. In the Matter of the Petition of the Department of Health and Environmental Sciences for an Order adopting a Sulfur Oxides Control Strategy for the Anaconda Copper Smelter at Anaconda, Montana, and requiring the Anaconda Company to comply with the Control Strategy | 11/16/1978 | 1/10/1980 | 45 FR 2034.
(3) Flathead County:
Air Quality Permit #2667-M, Dated 1/24/92. Plum Creek Manufacturing, Inc | 1/24/1992 | 4/14/1994 | 59 FR 17700.
Stipulation—A-1 Paving, In the Matter of Compliance of A-1 Paving, Kalispell, Montana | 9/17/1993 | 3/19/1996 | 61 FR 11153.
Stipulation—Equity Supply Company, In the Matter of Compliance of Equity Supply Company | 9/17/1993 | 3/19/1996 | 61 FR 11153.
Stipulation—Flathead Road Department #1, In the Matter of Compliance of Flathead Road Department, Kalispell, Montana | 9/17/1993 | 3/19/1996 | 61 FR 11153.
Stipulation—Flathead Road Department #2, In the Matter of Compliance of Flathead Road Department, Kalispell, Montana | 9/17/1993 | 3/19/1996 | 61 FR 11153.
Stipulation—Klingler Lumber Company, In the Matter of Compliance of Klinger Lumber Company, Inc., Kalispell, Montana | 9/17/1993 | 3/19/1996 | 61 FR 11153.
Stipulation—McElroy & Wilkens, In the Matter of Compliance of McElroy and Wilkens, Inc., Kalispell, Montana | 9/17/1993 | 3/19/1996 | 61 FR 11153.
Stipulation—Montana Mokko, In the Matter of Compliance of Montana Mokko, Kalispell, Montana | 9/17/1993 | 3/19/1996 | 61 FR 11153.
Stipulation—Pack and Company, In the Matter of Compliance of Pack and Company, Inc., Kalispell, Montana | 9/7/1993 | 3/19/1996 | 61 FR 11153.
Stipulation—Pack Concrete, In the Matter of Compliance of Pack Concrete, Inc., Kalispell, Montana | 9/17/1993 | 3/19/1996 | 61 FR 11153.
Stipulation—Plum Creek, In the Matter of Compliance of Plum Creek Manufacturing, L.P., Kalispell, Montana | 9/17/1993 | 3/19/1996 | 61 FR 11153.
(4) Gallatin County:
GCC Three Forks, LLC's Trident Plant October 18, 2019 Board Order Findings of Fact, Conclusions of Law, and Order. Setting Air Pollutant Emission Limits For Revision of the State Implementation Plan Concerning Protection of Visibility, Appendix A | 10/18/2019 | 6/26/2023 | [INSERT FEDERAL REGISTER CITATION].
(5) Jefferson County:
Ash Grove Cement Company's Montana City Plant October 18, 2019 Board Order Findings of Fact, Conclusions of Law, and Order. Setting Air Pollutant Emission Limits For Revision of the State Implementation Plan Concerning Protection of Visibility, Appendix A | 10/18/2019 | 6/26/2023 | [INSERT FEDERAL REGISTER CITATION].
(6) Lewis and Clark County:
Total Suspended Particulate NAAQS—East Helena, ASARCO Application for Revisions of Montana State Air Quality Control Implementation Plan—Only as it applies to Total Suspended Particulate | 4/24/1979 | 1/10/1980 | 45 FR 2034.
Sulfur Dioxide NAAQS—Board Orders, Stipulations, Exhibits, and Attachments, Asarco Stipulation—1994 March 15 | 3/15/1994 | 1/27/1995 | 60 FR 5313.
Sulfur Dioxide NAAQS—Board Orders, Stipulations, Exhibits, and Attachments, Exhibit A—Asarco Emission Limitations and Conditions, Asarco Incorporated, East Helena, Montana | 3/15/1994 | 1/27/1995 | 60 FR 5313.
Asarco Board Order—1994 March 18. In the Matter of the Application of the Department of Health and Environmental Sciences for Revision of the Montana State Air Quality Control Implementation Plan Relating to Control of Sulfur Dioxide Emissions from the Lead Smelter Located at East Helena, Montana, owned and operated by Asarco Incorporated | 3/18/1994 | 1/27/1995 | 60 FR 5313.
Lead NAAQS—Board Orders, Stipulations, Exhibits, and Attachments, American Chemet Stipulation—1995 June 30 | 6/30/1995 | 6/18/2001 | 66 FR 32760.
Lead NAAQS—Board Orders, Stipulations, Exhibits, and Attachments, American Chemet Board Order—1995 August 4 | 8/4/1995 | 6/18/2001 | 66 FR 32760.
Lead NAAQS—Board Orders, Stipulations, Exhibits, and Attachments, Exhibit A—American Chemet Emissions Limitations and Conditions, American Chemet Corporation, East Helena, Montana | 6/10/2013 | 3/28/2018 | 83 FR 13196.
Lead NAAQS—Board Orders, Stipulations, Exhibits, and Attachments, Asarco Stipulation—1996 June 11 | 6/11/1996 | 6/18/2001 | 66 FR 32760.
Lead NAAQS—Board Orders, Stipulations, Exhibits, and Attachments, Asarco Board Order—1996 June 26 | 6/26/1996 | 6/18/2001 | 66 FR 32760.
Lead NAAQS—Board Orders, Stipulations, Exhibits, and Attachments, Exhibit A—Asarco Emission Limitations and Conditions with attachments 1-7, Asarco Lead Smelter, East Helena, Montana | 6/26/1996 | 6/18/2001 | 66 FR 32760.
Lead NAAQS—Board Orders, Stipulations, Exhibits, and Attachments, Asarco Stipulation—1998 August 13 | 8/28/1998 | 6/18/2001 | 66 FR 32760.
Lead NAAQS—Board Orders, Stipulations, Exhibits, and Attachments, Asarco Board Order—1998 August 28 | 8/28/1998 | 6/18/2001 | 66 FR 32760.
Lead NAAQS—Board Orders, Stipulations, Exhibits, and Attachments, Asarco Stipulation—2000 July 18 | 9/15/2000 | 6/18/2001 | 66 FR 32767.
Lead NAAQS—Board Orders, Stipulations, Exhibits, and Attachments, Asarco Board Order—2000 September 15 | 9/15/2000 | 6/18/2001 | 66 FR 32767.
(7) Lincoln County:
Board Order—1994 December 16 (Stimson Lumber). In the Matter of Compliance of Stimson Lumber Company, Libby, Montana | 12/16/1994 | 9/30/1996 | 61 FR 51014.
Air Quality Permit #2627-M Dated 7/25/91. Stimson Lumber Company (formerly Champion International Corp) | 3/19/1993 | 8/30/1994 | 59 FR 44627.
Stipulation—Stimson Lumber. In the Matter of Compliance of Stimson Lumber Company, Libby, Montana | 12/16/1994 | 9/30/1996 | 61 FR 51014.
(8) Missoula County:
Air Quality Permit #2303M, Dated 3/20/92. Louisiana-Pacific Corporation | 3/20/1992 | 1/18/1994 | 59 FR 2537.
Air Quality Permit #2589M, Dated 1/23/92. Stone Container Corporation | 1/24/1992 | 1/18/1994 | 59 FR 2537.
(9) Rosebud County:
1980 October 22 Permit for Western Energy Company | 10/22/1980 | 4/26/1985 | 50 FR 16475.
Talen Montana, LLC's Colstrip Steam Electric Station, Units 1 and 2 October 18, 2019 Board Order Findings of Fact, Conclusions of Law, and Order. Setting Air Pollutant Emission Limits For Revision of the State Implementation Plan Concerning Protection of Visibility, Appendix A | 10/18/2019 | 6/26/2023 | [INSERT FEDERAL REGISTER CITATION].
(10) Silver Bow County:
Air Quality Permit #1636-06 dated 8/22/96. Rhone-Poulenc Basic Chemicals Company | 8/22/1996 | 12/6/1999 | 64 FR 68034.
Air Quality Permit #1749-05 dated 1/5/94. Montana Resources, Inc | 1/5/1994 | 3/22/1995 | 60 FR 15056.
(11) Yellowstone County:
Cenex June 12, 1998 Board Order and Stipulation. In the Matter of the Application of the Department of Health and Environmental Sciences for Revision of the Montana State Air Quality Control Implementation plan Relating to Control of Sulfur Dioxide Emissions in the Billings/Laurel Area | 6/12/1998 | 5/2/2002 | 67 FR 22168.
Cenex June 12, 1998 Exhibit A (with 3/17/00 Revisions) Emission Limitations and Other Conditions | 3/17/2000 | 5/22/2003 | 68 FR 27908.
Cenex March 17, 2000 Board Order and Stipulation. In the Matter of the Application of the Department of Environmental Quality for Revision of the Montana State Air Quality Control Implementation Plan Relating to Control of Sulfur Dioxide Emissions in the Billings/Laurel Area | 3/17/2000 | 5/22/2003 | 68 FR 27908.
Conoco June 12, 1998 Board Order and Stipulation. In the Matter of the Application of the Department of Health and Environmental Sciences for Revision of the Montana State Air Quality Control Implementation plan Relating to Control of Sulfur Dioxide Emissions in the Billings/Laurel Area | 6/12/1998 | 5/2/2002 | 67 FR 22168.
Conoco June 12, 1998 Exhibit A. Emission Limitations and Other Conditions | 6/12/1998 | 5/2/2002 | 67 FR 22168.
Exxon June 12, 1998 Board Order and Stipulation. In the Matter of the Application of the Department of Health and Environmental Sciences for Revision of the Montana State Air Quality Control Implementation Plan Relating to Control of Sulfur Dioxide Emissions in the Billings/Laurel Area | 6/12/1998 | 5/2/2002 | 67 FR 22168.
Exxon June 12, 1998 Exhibit A (with 3/17/00 Revisions). Emission Limitations and Other Conditions | 3/17/2000 | 5/22/2003 | 68 FR 27908.
Exxon March 17, 2000 Board Order and Stipulation. In the Matter of the Application of the Department of Environmental Quality for Revision of the Montana State Air Quality Control Implementation Plan Relating to Control of Sulfur Dioxide Emissions in the Billings/Laurel Area | 3/17/2000 | 5/22/2003 | 68 FR 27908.
Montana Power June 12, 1998 Board Order and Stipulation. In the Matter of the Application of the Department of Health and Environmental Sciences for Revision of the Montana State Air Quality Control Implementation plan Relating to Control of Sulfur Dioxide Emissions in the Billings/Laurel Area | 6/12/1998 | 5/2/2002 | 67 FR 22168.
Montana Power June 12, 1998 Exhibit A, Emission Limitations and Conditions | 6/12/1998 | 5/2/2002 | 67 FR 22168.
Montana Sulphur & Chemical Company June 12, 1998 Board Order and Stipulation. In the Matter of the Application of the Department of Health and Environmental Sciences for Revision of the Montana State Air Quality Control Implementation plan Relating to Control of Sulfur Dioxide Emissions in the Billings/Laurel Area | 6/12/1998 | 5/2/2002 | 67 FR 22168.
Montana Sulphur & Chemical Company June 12, 1998 Exhibit A. Emission Limitations and Other Conditions | 6/12/1998 | 5/2/2002 | 67 FR 22168.
Western Sugar June 12, 1998 Board Order and Stipulation. In the Matter of the Application of the Department of Health and Environmental Sciences for Revision of the Montana State Air Quality Control Implementation plan Relating to Control of Sulfur Dioxide Emissions in the Billings/Laurel Area | 6/12/1998 | 5/2/2002 | 67 FR 22168.
Western Sugar June 12, 1998 Exhibit A. Emission Limitations and Other Conditions | 6/12/1998 | 5/2/2002 | 67 FR 22168.
Yellowstone Energy Limited Partnership June 12, 1998 Board Order and Stipulation. In the Matter of the Application of the Department of Health and Environmental Sciences for Revision of the Montana State Air Quality Control Implementation Plan Relating to Control of Sulfur Dioxide Emissions in the Billings/Laurel Area | 6/12/1998 | 5/2/2002 | 67 FR 22168.
Yellowstone Energy Limited Partnership June 12, 1998 Exhibit A (with 3/17/00 revisions) Emission Limitations and Other Conditions | 3/17/2000 | 5/22/2003 | 68 FR 27908.
Yellowstone Energy Limited Partnership March 17, 2000 Board Order and Stipulation. In the Matter of the Application of the Department of Environmental Quality for Revision of the Montana State Air Quality Control Implementation Plan Relating to Control of Sulfur Dioxide Emissions in the Billings/Laurel Area | 3/17/2000 | 5/22/2003 | 68 FR 27908.
(12) Other:
JE Corette Steam Electric Station October 18, 2019 Board Order Findings of Fact, Conclusions of Law, and Order. Setting Air Pollutant Emission Limits For Revision of the State Implementation Plan Concerning Protection of Visibility, Appendix A | 10/18/2019 | 6/26/2023 | [INSERT FEDERAL REGISTER CITATION].

* * * * *

§ 52.1396 [Removed and Reserved]

3. Remove and reserve § 52.1396.

[FR Doc. 2023-13464 Filed 6-23-23; 8:45 am]

BILLING CODE P